DEPARTMENT OF THE INTERIOR

Bureau of Land Management

[CO-930-1430-ET; COC-69155]

Notice of Proposed Withdrawal and Transfer of Jurisdiction, Colorado; Correction

AGENCY: Bureau of Land Management, Interior.

ACTION: Correction.

SUMMARY: This action corrects errors in the notice published as FR doc 05-21568 in the Federal Register, 70 FR 62138 (October 28, 2005).

On page 62138, second column, delete last paragraph of the notice and replace with the following paragraph: “Notice is hereby given that an opportunity for a public meeting is afforded in connection with the proposed withdrawal and transfer of jurisdiction. All interested persons who desire a public meeting for the purpose of being heard on the proposed withdrawal and transfer of jurisdiction must submit a written request to the BLM Colorado State Director, within 90 days from the date of publication of this correction. If the authorized officer determines that a public meeting will be held, a notice of the time and place will be published in the Federal Register at least 30 days before the scheduled date of the meeting.”

Dated: December 1, 2005.
John D. Beck,
Acting Chief, Branch of Lands and Minerals.

[FR Doc. E5-7484 Filed 12-16-05; 8:45 am]

BILLING CODE 4310-JB-P